DEPARTMENT OF TRANSPORTATION

Federal Aviation Administration

14 CFR Part 39

[Docket No. FAA-2004-19766; Directorate Identifier 2002-NM-161-AD]

RIN 2120-AA64

Airworthiness Directives; BAE Systems (Operations) Limited (Jetstream) Model 4101 Airplanes

AGENCY: Federal Aviation Administration (FAA), DOT.

ACTION: Notice of proposed rulemaking (NPRM).

SUMMARY: The FAA proposes to adopt a new airworthiness directive (AD) for all BAE Systems (Operations) Limited (Jetstream) Model 4101 airplanes. This proposed AD would require replacing the aileron trim chain with a new, improved aileron trim chain, and modifying the installation of the aileron trim chain. This proposed AD is prompted by a report that the aileron trim cables were connected incorrectly on a correctly installed aileron trim chain. We are proposing this AD to prevent incorrect connection of the aileron trim cables, which could result in failure of the aileron trim system and consequent reduced controllability of the airplane.

DATES: We must receive comments on this proposed AD by January 7, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact British Aerospace Regional Aircraft American Support, 13850 Mclearen Road, Herndon, Virginia 20171.

You can examine the contents of this AD docket on the Internet at http://dms.dot.gov, or in person at the Docket Management Facility, U.S. Department of Transportation, 400 Seventh Street, SW., room PL-401, on the plaza level of the Nassif Building, Washington, DC. This docket number is FAA-2004-19766; the directorate identifier for this docket is 2002-NM-161-AD.

FOR FURTHER INFORMATION CONTACT: Technical information: Todd Thompson, Aerospace Engineer, International Branch, ANM-116, FAA, Transport Airplane Directorate, 1601 Lind Avenue, SW., Renton, Washington 98055-4056; telephone (425) 227-1175; fax (425) 227-1149.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19766; Directorate Identifier 2002-NM-161-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Civil Aviation Authority (CAA), which is the airworthiness authority for the United Kingdom, notified us that an unsafe condition may exist on all BAE Systems (Operations) Limited (Jetstream) Model 4101 airplanes. The CAA advises that, during a test flight following maintenance work, the aileron trim system did not function correctly. Investigation revealed that the aileron trim cables were connected incorrectly (cross-connected), though the aileron trim chain was installed correctly. This condition, if not corrected, could result in failure of the aileron trim system and consequent reduced controllability of the airplane.

Relevant Service Information

BAE Systems (Operations) Limited has issued Service Bulletin J41-27-061, Revision 1, dated July 12, 2002. The service bulletin describes procedures for replacing the aileron trim chain with a new, improved aileron trim chain, and modifying the installation of the aileron trim chain. The aileron trim cables cannot be cross-connected on the new aileron trim chain. Thus, accomplishing the actions specified in the service information is intended to adequately address the unsafe condition. The CAA mandated the service information and issued British airworthiness directive 006-11-2001 to ensure the continued airworthiness of these airplanes in the United Kingdom.

FAA's Determination and Requirements of the Proposed AD

This airplane model is manufactured in the United Kingdom and is type certificated for operation in the United States under the provisions of section 21.29 of the Federal Aviation Regulations (14 CFR 21.29) and the applicable bilateral airworthiness agreement. Pursuant to this bilateral airworthiness agreement, the CAA has kept the FAA informed of the situation described above. We have examined the CAA's findings, evaluated all pertinent information, and determined that we need to issue an AD for products of this type design that are certificated for operation in the United States.

Therefore, we are proposing this AD, which would require accomplishing the actions specified in the service information described previously, except as discussed under “Differences Among the Proposed AD, Service Information, and British Action.”

Differences Among the Proposed AD, Service Information, and British Action

British airworthiness directive 006-11-2001 specifies a compliance time of “not later than the next aileron trim circuit break down, or by 31 March 2005, whichever is the sooner.” This proposed AD specifies a compliance time of 30 months after the effective date of this AD. We find that this is a compliance time that is comparable in length to that in the British airworthiness directive, will allow the majority of operators sufficient time to accomplish the proposed action during a regularly scheduled maintenance visit, and will not compromise safety.

The Accomplishment Instructions of the referenced service bulletin describe procedures for reporting compliance with the service bulletin. This proposed AD would not require that action.

Costs of Compliance

This proposed AD would affect about 57 airplanes of U.S. registry. The proposed actions would take about 36 work hours per airplane, at an average labor rate of $65 per work hour. Required parts would cost about $2,500 per airplane. Based on these figures, the estimated cost of the proposed AD for U.S. operators is $275,880, or $4,840 per airplane.

Authority for this Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart III, Section 44701, “General requirements.” Under that section, the FAA is charged with promoting safe flight of civil aircraft in air commerce by prescribing regulations for practices, methods, and procedures the Administrator finds necessary for safety in air commerce. This regulation is within the scope of that authority because it addresses an unsafe condition that is likely to exist or develop on products identified in this AD.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

BAE Systems (Operations) Limited (Formerly British Aerospace Regional Aircraft): Docket No. FAA-2004-19766; Directorate Identifier 2002-NM-161-AD.

Comments Due Date

(a) The Federal Aviation Administration must receive comments on this AD action by January 7, 2005.

Affected ADs

(b) None.

Applicability

(c) This AD applies to all BAE Systems (Operations) Limited (Jetstream) Model 4101 airplanes, certificated in any category.

Unsafe Condition

(d) This AD was prompted by a report that the aileron trim cables can be connected incorrectly on a correctly installed aileron trim chain. We are issuing this AD to prevent incorrect connection of the aileron trim cables, which could result in failure of the aileron trim system and consequent reduced controllability of the airplane.

Compliance

(e) You are responsible for having the actions required by this AD performed within the compliance times specified, unless the actions have already been done.

Replacement of Aileron Trim Chain and Modification of Installation

(f) Within 30 months after the effective date of this AD: Replace the aileron trim chain, part number (P/N) 14127003-401, with a new, improved aileron trim chain, P/N 14127003-403; and modify the installation of the aileron trim chain; according to the Accomplishment Instructions of BAE Systems (Operations) Limited Service Bulletin J41-27-061, Revision 1, dated July 12, 2002.

Actions Accomplished According to Previous Issue of Service Bulletin

(g) Replacements and modifications accomplished before the effective date of this AD according to of BAE Systems (Operations) Limited Service Bulletin J41-27-061, dated November 7, 2001, are considered acceptable for compliance with the corresponding actions specified in this AD.

No Reporting Requirement

(h) Although the service bulletin referenced in this AD specifies to report compliance information to the manufacturer, this AD does not include that requirement.

Alternative Methods of Compliance (AMOCs)

(i) The Manager, International Branch, ANM-116, Transport Airplane Directorate, FAA, has the authority to approve AMOCs for this AD, if requested in accordance with the procedures found in 14 CFR 39.19.

Related Information

(j) British airworthiness directive 006-11-2001 also addresses the subject of this AD.

Issued in Renton, Washington, on November 30, 2004.
Ali Bahrami,
Manager, Transport Airplane Directorate, Aircraft Certification Service.

[FR Doc. 04-26919 Filed 12-7-04; 8:45 am]

BILLING CODE 4910-13-P